DEPARTMENT OF LABOR

Office of the Secretary

Submission for OMB Review; Comment Request

October 30, 2002.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or e-mail Howze-Marlene@dol.gov.

Comments should be sent to Office of Information and Regulatory Affairs, Attn: OMB Desk Officer for BLS, Office of Management and Budget, Room 10235, Washington, DC 20503 (202) 395-7316), within 30 days from the date of this publication to the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used:

• Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: Bureau of Labor Statistics (BLS).

Title: Cognitive and Psychological Research.

OMB Number: 1220-0141.

Affected Public: Individuals or households.

Frequency: One-time.

Number of Respondents: 4,000.

Number of Annual Responses: 4,000.

Estimated Time Per Response: 1 hour.

Total Annualized Capital/Startup Costs: $0.

Total Annual Costs (operating/maintaining systems or purchasing services): $0.

Description: The Bureau of Labor Statistics' Behavioral Science Research Laboratory conducts psychological research focusing on the design and execution of the data collection process in order to improve the quality of data collected by the Bureau. The proposed laboratory research will be conducted from Fiscal Year (FY) 2003 through FY 2005 and is expected to: (1) Improve the data collection instruments employed by the Bureau; (2) increase the accuracy of the economic data produced by BLS and on which economic policy decisions are based; (3) increase the ease of administering survey instruments for both respondents and interviewers; (4) increase response rates in panel surveys as a result of reduced respondent burden; and (5) enhance BLS's reputation resulting in greater confidence and respect in survey instruments used by BLS.

Ira L. Mills,
DOL Clearance Officer.

[FR Doc. 02-28383 Filed 11-6-02; 8:45 am]

BILLING CODE 4510-24-M